DEPARTMENT OF ENERGY

Federal Energy Regulatory Commission

[Docket No. CP20-52-000]

WBI Energy Transmission, Inc.; Notice of Revised Schedule for Environmental Review of the North Bakken Expansion Project

This notice identifies the Federal Energy Regulatory Commission (FERC or Commission) staff's revised schedule for the completion of the environmental assessment (EA) for WBI Energy Transmission, Inc.'s (WBI Energy) North Bakken Expansion Project. The first notice of schedule, issued on April 10, 2020, identified September 4, 2020 as the EA issuance date. Since issuance of the April 10 notice, WBI Energy has proposed pipeline route and facility changes and has not fully responded to a previous information request. WBI Energy stated in a letter filed to the project docket that it will file the outstanding data needed for the EA, including information regarding the route changes, on or before September 11, 2020. As a result, Commission staff has revised the schedule for issuance of the EA, based on WBI Energy filing complete information within the forthcoming data response.

Schedule for Environmental Review

Issuance of the EA—December 17, 2020

90-day Federal Authorization Decision Deadline—March 17, 2021

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the project is available from the Commission's Office of External Affairs at (866) 208-FERC or on the FERC website (www.ferc.gov). Using the eLibrary link, enter the “Docket Number” excluding the last three digits (i.e., CP20-52), select a date range, and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 3, 2020.
Kimberly D. Bose,
Secretary.

[FR Doc. 2020-20002 Filed 9-9-20; 8:45 am]

BILLING CODE 6717-01-P